DEPARTMENT OF COMMERCE

National Oceanic and Atmospheric Administration

RIN 0648-XC120

Aquatic Nuisance Species Task Force Strategic Plan 2013-2017

AGENCY: National Marine Fisheries Service (NMFS), National Oceanic and Atmospheric Administration (NOAA), Commerce.

ACTION: Notice of availability of Strategic Plan; request for comments.

SUMMARY: The National Oceanic and Atmospheric Administration (NOAA) announces the availability of the Aquatic Nuisance Species Task Force Strategic Plan 2013—2017 (Plan), approved by the Aquatic Nuisance Species Task Force (ANSTF). The Plan is available for public review and comment.

DATES: Comments must be received within 45 days after September 20, 2012.

ADDRESSES: Electronic copies of the Strategic Plan are available on the ANSTF Web site, http://anstaskforce.gov. To obtain a hard copy of the Strategic Plan or to submit comments, see Document Availability and Public Comment under SUPPLEMENTARY INFORMATION.

FOR FURTHER INFORMATION CONTACT: Margaret M. (Peg) Brady, NOAA Policy Liaison to the Aquatic Nuisance Species Task Force. 1315 East West Highway, SSMC 3, Rm. 15426 Silver Spring, MD 20910 Phone: 301-427-8655; Email: Peg.Brady@noaa.gov.

SUPPLEMENTARY INFORMATION:

Introduction

The Aquatic Nuisance Species Task Force (ANSTF) is an intergovernmental organization dedicated to preventing and controlling aquatic nuisance species (ANS) and coordinating governmental efforts dealing with ANS in the United States with those of the private sector and other North American interests. ANSTF was established by Congress with the passage of the Nonindigenous Aquatic Nuisance Prevention and Control Act (NANPCA, Pub. L. 101-646, 104 STAT. 4671, 16 U.S.C. 4701-4741) in 1990 and reauthorized with the passage of the National Invasive Species Act (NISA) in 1996. Section 1201(d) of NANPCA designates the Undersecretary of Commerce for Oceans and Atmosphere and the Director of the Fish and Wildlife Service and the as the ANSTF Co-chairpersons. The ANSTF's charter is authorized by the Federal Advisory Committee Act (FACA) of 1972. The charter provides the ANSTF with its core structure and ensures an open and public forum for its activities. To meet the challenges of developing and implementing a coordinated and complementary Federal program for ANS activities, the ANSTF members include 13 Federal agency representatives and 13 representatives from ex-officio member organizations. These members work in conjunction with Regional Panels and issue-specific committees to coordinate efforts amongst agencies as well as efforts of the private sector and other North American interests.

Background

Section 1202 (a) of NANPCA authorizes the ANSTF to develop and implement a program for waters of the United States to prevent introduction and dispersal of ANS, to monitor, control, and study such species, and to disseminate related information. The Aquatic Nuisance Species Program document guided the work of the ANSTF from 1994 to 2002. The document tracked the requirements outlined in the NANPCA, established the core and supporting elements of the ANS program, provided for prioritization of activities, and charted a course for implementation of the Act. The ANSTF Strategic Plans for 2002-2007 and 2007-2012 maintained the key elements of the ANS Program, but provided a broader focus for activities consistent with provisions of NISA. These plans provided more emphasis on prevention strategies, particularly for intentional introductions.

On May 6, 2011, the ANSTF formed an ad hoc committee to draft the ANSTF Strategic Plan for 2013—2017. A draft plan was presented to the ANSTF on November 2, 2011. ANSTF Federal agency and ex-officio members and Regional Panels representatives were given the opportunity to review and comment on the draft plan. Each comment received was reviewed and addressed by the ad hoc committee and a revised draft plan was presented to the ANSTF. The ANSTF approved the revised draft on May 3, 2012.

The ANSTF Strategic Plan for 2013—2017 (hereafter, the Strategic Plan) carries through many of the goals and objectives established in previous plans by remaining focused on prevention, monitoring, and control of ANS as well as increasing public understanding of the problems and impacts associated with invasive species. The Strategic Plan also calls attention to other areas of ANS management, including habitat restoration and research. The Strategic Plan establishes the following eight goals, each which contain associated objectives and action items.

1. Coordination: The ANSTF was created to facilitate cooperation and coordinate efforts between Federal, State, tribes, and local agencies, the private sector, and other North American interests. The objectives for the coordination goal include strengthening cooperation at both national and regional levels within the ANSTF and the Regional Panels and encouraging the development and implementation of ANS plans and regulations.

2. Prevention: Prevention is the first-line of defense against ANS. This goal calls for developing strategies to identify and reduce the risk of ANS introduced by increasing development and use of risk assessments, Hazard Analysis and Critical Control Point programs (HACCP), and pathway assessment and interdiction options.

3. Early Detection and Rapid Response: Early Detection and Rapid Response programs are designed to monitor habitats to discover new species soon after introduction, report sightings of previously unknown species in an area, and work quickly to keep the species from becoming established and spreading. Objectives for the ANSTF include improving detection and monitoring programs and facilitating development and implementation of rapid response contingency plans.

4. Control and Management: Control and management tools are needed to assess, remove, and contain ANS populations as well as to guide management decisions. The ANSTF will implement this goal by evaluating and providing support to management plans, increasing training opportunities, and encouraging the development of management techniques.

5. Restoration: Habitat restoration is an essential to guard against future invasions and to minimize harm from invasive species. This goal focuses on restoring impacted ecosystems and consideration of potential ANS during planning and implementation of restoration activities.

6. Education/Outreach: The lack of awareness concerning ANS impacts is one of the largest management obstacles. Few people understand the threat some ANS pose and how their actions might introduce them. Objectives by the ANSTF for education and outreach include reaching out to the general public, providing technical guidance to targeted audiences, and raising awareness among legislators and decision makers.

7. Research: Research supports all facets of the Strategic Plan and is necessary to increase the effectiveness of prevention, detection, response, and control and management of invasive species. To help ensure that research addresses critical needs, this goal focuses on coordination among government agencies, academia, and other participating entities.

8. Funding: Securing dedicated long-term and emergency funding is necessary to achieve the goals laid out in the Strategic Plan. The actions outlined by the ANSTF focus on coordinating Federal agency budgets to support ANSTF priorities, develop partnerships, and seek opportunities to leverage funds within Federal and State agencies, local governments, tribal entities, industry, as well as other entities including non-governmental organizations.

The Strategic Plan should not be considered a comprehensive list of all ANS strategic actions; it does contain a targeted set of priority strategic goals, objectives, and associated action items that are intended to be completed in the next 5 years. The accomplishment of specific objectives and action items will be dependent upon budgets of individual agencies and the Regional Panels; and in some cases, legal or regulatory changes as well as enforcement of these changes. Following adoption of the Strategic Plan, an Operational Plan will be composed to depict short-term efforts to achieve the actions in the Strategic Plan to ensure the goals and objectives of the Strategic Plan are measurable and accountable. The Operational Plan will be completed by the ANSTF members working together and separately with support of the Regional Panels and committees. The actions in the Operational Plan will be updated regularly and reported on to measure the progress towards meeting the goals of the Strategic Plan.

The Strategic Plan takes a deliberate, cooperative approach and builds on existing programs. The ANSTF will utilize this plan to maximize its efforts over the next 5 years to prevent and control invasive species with the purpose of protecting our environment, economy and human health. The Strategic Plan was approved by the ANSTF on May 3, 2012; distribution of the document for public comment is the final step for the ANSTF to adopt the Strategic Plan.

Document Availability

You may obtain copies of the Strategic Plan by any one of the following methods:

• Internet: http://anstaskforce.gov

• Write: Susan Pasko, National Oceanic and Atmospheric Administration. 1315 East West Highway, SSMC 3, Rm. 15719 Silver Spring, MD 20910; Telephone: (301) 427-8682; Email: Susan.Pasko@noaa.gov.

Request for Comments

Comments on the Strategic Plan are invited. The ANSTF will review all submitted comments and make revisions, as appropriate, to the Strategic Plan before adoption. You may submit a written comment by any one of the following methods:

• Email: Susan.Pasko@noaa.gov.

• Mail or hand-delivery: Susan Pasko, National Oceanic and Atmospheric Administration. 1315 East West Highway, SSMC 3, Rm. 15719 Silver Spring, MD 20910.

• Fax: (301) 713-1043.

Before including your address, phone number, email address, or other personal identifying information in your comment, you should be aware that your entire comment—including your personal identifying information—may be made publicly available at any time. While you can ask us in your comment to withhold your personal identifying information from public review, we cannot guarantee that we will be able to do so.

Dated: July 25, 2012.
Alan D. Risenhoover,
Director, Office of Sustainable Fisheries, performing the functions and duties of the Deputy Assistant Administrator for Regulatory Programs, National Marine Fisheries Service.

[FR Doc. 2012-19161 Filed 8-3-12; 8:45 am]

BILLING CODE 3510-22-P